DEPARTMENT OF TRANSPORTATION

Federal Aviation Administration

14 CFR Part 71

[Docket No. FAA-2018-0256; Airspace Docket No. 18-AEA-11]

RIN 2120-AA66

Amendment of Class D Airspace and Class E Airspace; Schenectady, NY, Ithaca, NY, and Albany, NY

Correction

In rule document 2019-02687, appearing on pages 4991 through 4993, in the issue of Wednesday, February 20, 2019, make the following correction:

§ 71.1 [Corrected]

On page 4992, in the second column, under the heading “AEA NY E2 Ithaca, NY [Amended]”, in the third line, the entry that reads “(Lat. 42°29′29″ N, long. 76°27′3″ W)” should read “(Lat. 42°29′29″ N, long. 76°27′31″ W)”.

[FR Doc. C1-2019-02687 Filed 3-1-19; 8:45 am]

BILLING CODE 1301-00-D